DEPARTMENT OF LABOR

Employment and Training Administration

[TA-W-60,280]

Parkdale America, LLC; Parkdale Mills, Inc.; Eden, NC; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance and Alternative Trade Adjustment Assistance on November 30, 2006, applicable to workers of Parkdale America, LLC, Eden, North Carolina. The notice was published in the Federal Register on December 12, 2006 (71 FR 74564).

At the request of a company official, the Department reviewed the certification for workers of the subject firm. The workers were engaged in the production of open end spun yarn.

New information shows that Parkdale Mills, Inc. is the parent firm of Parkdale America, LLC. Workers separated from employment at the subject firm had their wages reported under two separate unemployment insurance (UI) tax accounts: Parkdale America, LLC and Parkdale Mills, Inc.

Accordingly, the Department is amending the certification to properly reflect this matter.

The intent of the Department's certification is to include all workers of the Eden, North Carolina location of the subject firm who were adversely affected by increased customer imports.

The amended notice applicable to TA-W-60,280 is hereby issued as follows:

“All workers of Parkdale America, LLC, Parkdale Mills, Inc., Eden, North Carolina, who became totally or partially separated from employment on or after October 1, 2005, through November 30, 2008, are eligible to apply for adjustment assistance under Section 223 of the Trade Act of 1974 and are also eligible to apply for alternative trade adjustment assistance under Section 246 of the Trade Act of 1974.”

Signed at Washington, DC, this 2nd day of February 2007.
Elliott S. Kushner,
Certifying Officer, Division of Trade Adjustment Assistance.

[FR Doc. E7-2166 Filed 2-8-07; 8:45 am]

BILLING CODE 4510-FN-P